DEPARTMENT OF LABOR

Employment and Training Administration

[TA-W-52,378]

Hitachi Automotive Products, Inc., Harrodsburg, KY; Notice of Termination of Investigation

Pursuant to section 221 of the Trade Act of 1974, as amended, an investigation was initiated on July 23, 2003, in response to a petition filed on behalf of workers at Hitachi Automotive Products, Inc., Harrodsburg, Kentucky.

The petitioners have requested that the petition be withdrawn. Consequently, further investigation would serve no purpose and the investigation is terminated.

Signed at Washington, DC, this 12th day of September, 2003.
Linda G. Poole,
Certifying Officer, Division of Trade Adjustment Assistance.

[FR Doc. 03-27445 Filed 10-30-03; 8:45 am]

BILLING CODE 4510-30-P